Title 3—

The President

Notice of June 14, 2007

Continuation of the National Emergency Blocking Property of Certain Persons Undermining Democratic Processes or Institutions in Belarus

On June 16, 2006, by Executive Order 13405, I declared a national emergency and ordered related measures blocking the property of certain persons undermining democratic processes or institutions in Belarus, pursuant to the International Emergency Economic Powers Act (50 U.S.C. 1701-1706). I took this action in response to the unusual and extraordinary threat to the national security and foreign policy of the United States constituted by the actions and policies of certain members of the Government of Belarus and other persons that have undermined democratic processes or institutions; committed human rights abuses related to political repression, including detentions and disappearances; and engaged in public corruption, including by diverting or misusing Belarusian public assets or by misusing public authority.

Because these actions and policies continue to pose an unusual and extraordinary threat to the national security and foreign policy of the United States, the national emergency declared on June 16, 2006, and the measures adopted on that date to deal with that emergency, must continue in effect beyond June 16, 2007. Therefore, in accordance with section 202(d) of the National Emergencies Act (50 U.S.C. 1622(d)), I am continuing for 1 year the national emergency declared in Executive Order 13405.

This notice shall be published in the Federal Register and transmitted to the Congress.

THE WHITE HOUSE,

June 14, 2007.

[FR Doc. 07-3005

Filed 6-14-07; 12:01 pm]

Billing code 3195-01-P